DEPARTMENT OF TRANSPORTATION

Federal Aviation Administration

[Docket No. 2011-0435]

Office of Commercial Space Transportation Notice of Intent To Publish Current and Future Launch, Site, and Reentry Licenses and Permits and Their Orders Online

AGENCY: Federal Aviation Administration, DOT.

ACTION: Notice.

SUMMARY: The Federal Aviation Administration (FAA) is changing the way the Office of Commercial Space Transportation (AST) makes its permits, licenses, and all accompanying orders (authorizations) available to the public. The FAA intends to post all current and future authorizations online on the AST Web site ¹ beginning on October 24, 2011. The FAA will not publish license or permit applications or evaluations. The FAA has determined that posting authorizations online will allow it to more effectively and efficiently inform the public of its commercial space transportation permit and license determinations.

¹ The AST website address is http://faa.gov/go/ast. The FAA proposes to post launch, reentry and site licenses in the Commercial Space Data—Active Licenses section at http://www.faa.gov/about/office_org/headquarters_offices/ast/launch_data/current_licenses/. The FAA proposes to post permits in the Commercial Space Data—Active Permits section at http://www.faa.gov/about/office_org/headquarters_offices/ast/launch_data/current_permits/.

DATES: Please submit any comments on or before September 22, 2011. Comments received after this date will be considered if it is practical to do so, but assurance of consideration cannot be given except as to comments received on or before this date.

ADDRESSES: Send comments identified by Docket No. 2011-0435 using any of the following methods:

• Federal eRulemaking Portal: Go to http://www.regulations.gov and follow the online instructions for sending your comments electronically.

• Mail: Send comments to Docket Operations, M-30; U.S. Department of Transportation (DOT), 1200 New Jersey Avenue, SE., Room W12-140, West Building Ground Floor, Washington, DC 20590-0001.

• Hand Delivery or Courier: Take comments to Docket Operations in Room W12-140 of the West Building Ground Floor at 1200 New Jersey Avenue, SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue, SE., Washington, DC, between 9 a.m. and 5 p.m., Monday through Friday, except Federal holidays.

FOR FURTHER INFORMATION CONTACT: For technical questions concerning this notice contact Charles P. Brinkman, Licensing Program Lead, Commercial Space Transportation—Licensing and Evaluation Division, Office of Commercial Space Transportation, Federal Aviation Administration, 800 Independence Avenue, SW., Washington, DC 20591; telephone (202) 267-7715; e-mail: phil.brinkman@faa.gov. For legal questions concerning this notice contact Laura Montgomery, Senior Attorney for Commercial Space Transportation, AGC-200, Office of the Chief Counsel, Regulations Division, Federal Aviation Administration, 800 Independence Avenue, SW., Washington, DC 20591; telephone (202) 267-3150; e-mail: laura.montgomery@faa.gov.

SUPPLEMENTARY INFORMATION:

The Secretary of Transportation has the authority to issue commercial space transportation permits and licenses for commercial launch, reentry, and launch and reentry site operations. 51 U.S.C. 50901(b)(3). A license is required to launch a launch vehicle, reenter a reentry vehicle, or operate a launch or reentry site within the United States or by a U.S. citizen. 51 U.S.C. 50904(a)(1)-(4). The FAA issues permits for the launch of reusable suborbital rockets pursuant to the requirements of 51 U.S.C. 50906. Title 5 U.S.C. 552(a)(2) applies to final authorizations the FAA issues to an applicant, and the FAA should therefore make authorizations “available for public inspection, and copying.” 5 U.S.C. 552(a)(2).

In compliance with the Administrative Procedure Act, as well as recent guidance from the White House, the FAA is planning to post all current and future authorizations online in order to increase agency efficiency, effectiveness, and transparency. The FAA receives Freedom of Information Act (FOIA) requests for authorizations, and publishing this information online would save the agency both the time and resources used to process and respond to these FOIA requests. The President's recent memorandum on regulatory compliance encourages agencies to make readily accessible to the public information concerning their regulatory compliance and enforcement activities. Presidential Memoranda—Regulatory Compliance (January 18, 2011); available at http://www.whitehouse.gov/the-press-office/2011/01/18/presidential-memoranda-regulatory-compliance. Publishing authorizations online furthers the FAA's goal of transparency, openness, and public access by making it easier and faster for the public to obtain information regarding AST licensing and permit activities.

Information contained in authorizations is typically not confidential. Typical information provided in a launch license or permit and any accompanying orders includes the specific types of vehicles the authorization applies to, the launch location, and the amount of liability and government property insurance the FAA requires the authorized entity to maintain. Launch licenses also include the term of the license, the authorized azimuths of the launch vehicle, and any type of payload. In some cases, such as a Pegasus launch or a launch under a permit, the launch license will define when flight begins. Insurance information has historically been published on the FAA website. Information including the launch area and the date and time of the launch is provided in publicly available notices to airmen and mariners.²

² Notices to airmen and mariners are publicly available on the FAA Web site for two months after their effective date at: http://tfr.faa.gov/tfr2/list.html.

Information in a site license includes the site location, site activities, type of launch vehicle authorized for the site, and the term of the license.

Information provided in a reentry license includes the term of the license, the term of insurance coverage, and the nominal reentry locations. The insurance information is publicly available, now on the FAA's Web site, and the nominal reentry area locations are publicly available in notices to airmen and mariners.

Notices to airmen and mariners are publicly available documents, but they do not provide the same information contained in a license. A notice to airmen and mariners will contain coordinates for an area to alert airmen and mariners of hazards during a specified time period for safety reasons. For reentry, this area is calculated based on the reentry vehicle's possible impact points. While launch locations are generally well-known because launches occur from established launch pads, reentry locations may be the result of an operator's own calculations and decisions. Notices to airmen that restrict air traffic during a reentry do not provide the nominal reentry points that the FAA currently includes in the operator's license. Therefore, operators may have concerns about reverse engineering using the reentry data provided in licenses. While the FAA will continue to include nominal and contingency reentry points in authorizations, operators will have the opportunity to request that the information be redacted from online publication if they consider it confidential. If an operator makes such a request, the FAA will examine the operator's rationale and make a determination regarding whether or not the information is confidential.

Most licenses and permits do not contain confidential information or data. However, for those occasions where specific license terms or conditions reflect circumstances unique to a particular operator, there are protections available under the statute and regulations. Applicants for a license can protect trade secrets or proprietary commercial or financial data by requesting in writing that the information be treated as confidential at the time it is submitted. 14 CFR 413.9(a). Information or data the applicant wishes to protect must be clearly marked with an identifying legend, or cover sheet containing an identifying legend. 14 CFR 413.9(b).

The FOIA exempts from mandatory disclosure trade secrets and privileged or confidential commercial or financial information. 5 U.S.C. 552(b)(4). Information that “is designated as confidential by the person or head of the executive agency providing the information” or that qualifies for an exemption under FOIA can be disclosed by the Secretary of Transportation, an officer or employee of the United States Government, or a person making a contract with the Secretary under section 50906(b) of this title “if the Secretary decides that the withholding of the information or data is contrary to the public or national interest.” 51 U.S.C. 50916; 14 CFR 413.9(d).

In some cases, licenses contain specific terms and conditions tailored for a particular licensee. Even so, terms and conditions typically do not contain confidential information, and the FAA will publish these terms and conditions online. The terms may have a useful effect that others may want to be aware of. In the event that the terms and conditions contain confidential information, the licensee can follow the procedures to protect confidential information described above. The FAA will be providing the public with potentially useful information by making this information more readily available through online publication.

Before implementing this new policy, the FAA requests comment from the public, and is providing a period of 30 days for comment.

Issued in Washington, DC, on August 5, 2011.
George C. Nield,
Associate Administrator for Commercial Space Transportation.

[FR Doc. 2011-21423 Filed 8-22-11; 8:45 am]

BILLING CODE 4910-13-P